DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of October 16, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 10, 2015.
Roy E. Wright,
Deputy Associate Administrator for Insurance and Mitigation, Department of Homeland Security, Federal Emergency Management Agency.

I. Watershed-based studies:

Community | Community map repository address
Lower Wisconsin Watershed
Crawford County, Wisconsin, and Incorporated Areas
Docket No.: FEMA-B-1434
City of Prairie du Chien | City Hall, 214 East Blackhawk Avenue, Prairie du Chien, WI 53821.
Unincorporated Areas of Crawford County | Administration Building, 225 North Beaumont Road, Prairie du Chien, WI 53821.
Village of Bell Center | Village Hall, 430 Bell Center Road, Bell Center, WI 54631.
Village of Ferryville | Village Hall, 170 Pine Street, Ferryville, WI 54631.
Village of Gays Mills | Village Hall, 16381 State Highway 131, Gays Mills, WI 54631.
Village of Lynxville | Village Hall, 475 Bench Street, Lynxville, WI 54626.
Village of Soldiers Grove | Village Hall, 102 Passive Sun Drive, Soldiers Grove, WI 54655.
Village of Steuben | Village Hall, 123 Midway Street, Steuben, WI 54657.
Village of Wauzeka | Village Hall, 213B East Front Street, Wauzeka, WI 53826.

II. Non-watershed-based studies:

Community | Community map repository address
Yavapai County, Arizona, and Incorporated Areas
Docket No.: FEMA-B-1266
City of Cottonwood | Public Works Department, 1490 West Mingus Avenue, Cottonwood, AZ 86326.
Town of Camp Verde | Town Clerk's Office, 473 South Main Street, Suite 102, Camp Verde, AZ 86322.
Town of Clarkdale | Public Works Department, 890 Main Street, Clarkdale, AZ 86324.
Unincorporated Areas of Yavapai County | Yavapai County Flood Control District Office, 1120 Commerce Drive, Prescott, AZ 86305.
Des Moines County, Iowa, and Incorporated Areas
Docket No.: FEMA-B-1415
City of Burlington | Development Department, 400 Washington Street, Burlington, IA 52601.
Unincorporated Areas of Des Moines County | Southeast Iowa Regional Planning Commission, 200 North Front Street, Suite 400, Burlington, IA 52601.
Louisa County, Iowa, and Incorporated Areas
Docket No.: FEMA-B-1415
City of Oakville | City Hall, 601 Second Street, Oakville, IA 52646.
Unincorporated Areas of Louisa County | County Courthouse, 117 South Main Street, Wapello, IA 52653.
Stillwater County, Montana, and Incorporated Areas
Docket No.: FEMA-B-1418
Town of Columbus | Stillwater County West Annex, 431 Quarry Road, Columbus, MT 59019.
Unincorporated Areas of Stillwater County | Stillwater County West Annex, 431 Quarry Road, Columbus, MT 59019.
Mercer County, North Dakota, and Incorporated Areas
Docket No.: FEMA-B-1427
City of Beulah | Beulah City Hall, 120 Central Avenue North, Beulah, ND 58523.
City of Golden Valley | City Hall, 110 1st Avenue SW, Golden Valley, ND 58541.
City of Hazen | City Planner, 146 Main Street East, Hazen, ND 58545.
City of Stanton | City Hall, 109 Harmon Avenue, Stanton, ND 58571.
City of Zap | Auditor, City of Zap, 121 Main Street, Zap, ND 58580.
Three Affiliated Tribes of The Fort Berthold Reservation | Three Affiliated Tribes of Fort Berthold, 404 Frontage Road, New Town, ND 58763.
Unincorporated Areas of Mercer County | Department of Emergency Services, 1021 Arthur Street, Stanton, ND 58571.
Morton County, North Dakota, and Incorporated Areas
Docket No.: FEMA-B-1427
City of Hebron | City Hall, 620 Washington Avenue, Hebron, ND 58638.
City of Mandan | City Hall, 205 2nd Avenue NW, Mandan, ND 58554.
Unincorporated Areas of Morton County | Morton County Courthouse, 210 2nd Avenue NW, Mandan, ND 58554.
Traill County, North Dakota, and Incorporated Areas
Docket No.: FEMA-B-1433
Township of Belmont | Traill County Courthouse, 114 West Caledonia Avenue, Hillsboro, ND 58045.
Township of Bingham | Traill County Courthouse, 114 West Caledonia Avenue, Hillsboro, ND 58045.
Township of Caledonia | Traill County Courthouse, 114 West Caledonia Avenue, Hillsboro, ND 58045.
Township of Elm River | Traill County Courthouse, 114 West Caledonia Avenue, Hillsboro, ND 58045.
Townshipof Herberg | Traill County Courthouse, 114 West Caledonia Avenue, Hillsboro, ND 58045.
Greene County, Pennsylvania (All Jurisdictions)
Docket No.: FEMA-B-1429
Borough of Carmichaels | Borough Building, 100 West George Street, Carmichaels, PA 15320.
Borough of Clarksville | Borough Office, 300 Factory Street, Clarksville, PA 15322.
Borough of Greensboro | Borough Office, 405 Front Street, Greensboro, PA 15338.
Borough of Rices Landing | Borough Municipal Building, 137 Main Street, Rices Landing, PA 15357.
Borough of Waynesburg | Borough Office, 90 East High Street, Waynesburg, PA 15370.
Township of Aleppo | Aleppo Township Municipal Building, 815 Aleppo Road, New Freeport, PA 15352.
Township of Center | Center Township Municipal Building, 100 Municipal Drive, Rogersville, PA 15359.
Township of Cumberland | Cumberland Township Municipal Building, 100 Municipal Road, Carmichaels, PA 15320.
Township of Dunkard | Dunkard Township Office, 370 North Moreland Street, Bobtown, PA 15315.
Township of Franklin | Franklin Township Municipal Building, 568 Rolling Meadows Road, Waynesburg, PA 15370.
Township of Freeport | Freeport Township Office, 773 Golden Oaks Road, New Freeport, PA 15352.
Township of Gilmore | Gilmore Township Municipal Building, 181 Hero Road, New Freeport, PA 15352.
Township of Gray | Gray Township Municipal Building, 201 Stringtown Road, Graysville, PA 15337.
Township of Greene | Greene Township Office, 243 Garards Fort Road, Garards Fort, PA 15334.
Township of Jackson | Jackson Township Building, 104 Tunnel Road, Holbrook, PA 15341.
Township of Jefferson | Jefferson Township Municipal Building, 173 Goslin Road, Rices Landing, PA 15357.
Township of Monongahela | Monongahela Township Office Building, 128 Maple Ridge Road, Greensboro, PA 15338.
Township of Morgan | Morgan Township Municipal Building, 1019 3rd Street Extension, Mather, PA 15346.
Township of Morris | Morris Township Municipal Building, 1317 Browns Creek Road, Sycamore, PA 15364.
Township of Perry | Perry Township Municipal Building, 799 Big Shannon Run Road, Mount Morris, PA 15349.
Township of Richhill | Richhill Township Municipal Building, 109 Municipal Lane, Wind Ridge, PA 15380.
Township of Springhill | Springhill Township Municipal Building, 268 Windy Gap Road, Aleppo, PA 15310.
Township of Washington | Washington Township Municipal Office, 112 Municipal Lane, Prosperity, PA 15329.
Township of Wayne | Wayne Township Municipal Building, 132 Spraggs Road, Spraggs, PA 15362.
Township of Whiteley | Whiteley Township Municipal Building, 1426 Kirby Road, Waynesburg, PA 15370.
Washington County, Wisconsin, and Incorporated Areas
Docket No.: FEMA-B-1356
City of Hartford | City Hall, 109 North Main Street, Hartford, WI 53027.
Unincorporated Areas of Washington County | Washington County Government Center, 432 East Washington Street, West Bend, WI 53095.
Village of Germantown | Village Hall, N112 W17001 Mequon Road, Germantown, WI 53022.
Village of Richfield | Village Hall, 4128 Hubertus Road, Hubertus, WI 53033.
Village of Slinger | Village Hall, 300 Slinger Road, Slinger, WI 53086.

[FR Doc. 2015-21882 Filed 9-2-15; 8:45 am]

BILLING CODE 9110-12-P